DEPARTMENT OF LABOR

Employment and Training Administration

[TA-W-65,137]

New Page Corporation, a Subsidiary of Cerberus Capital Management, LP; Rumford, ME; Notice of Termination of Investigation

Pursuant to Section 221 of the Trade Act of 1974, as amended, an investigation was initiated on February 5, 2009 in response to a petition filed by a company official, the International Brotherhood of United Electrical Workers, Local 2144, and the United Steel Workers, Local 900, on behalf of workers of New Page Corporation, a subsidiary of Cerberus Capital Management, LP, Rumford, Maine.

The petitioners have requested that the petition be withdrawn. Consequently, the investigation has been terminated.

Signed at Washington, DC, this 17th day of March 2009.
Elliott S. Kushner,
Certifying Officer, Division of Trade Adjustment Assistance.

[FR Doc. E9-7140 Filed 3-30-09; 8:45 am]

BILLING CODE 4510-FN-P